ENVIRONMENTAL PROTECTION AGENCY

40 CFR Part 300

[FRL-6602-9]

National Oil and Hazardous Substances Pollution Contingency Plan; National Priorities List

AGENCY: Environmental Protection Agency.

ACTION: Notice of intent to delete the Chemform, Inc. Site from the National Priorities List (NPL); request for comments.

SUMMARY: The Environmental Protection Agency (EPA), Region 4, announces its intent to delete the Chemform, Inc. Superfund Site in Pompano Beach, Broward County, Florida, from the National Priorities List (NPL) and requests public comment on this proposed action. The NPL constitutes Appendix B of 40 CFR part 300 to the National Oil and Hazardous Substances Pollution Contingency Plan (NCP), which EPA promulgated pursuant to section 105 of the Comprehensive Environmental Response, Compensation, and Liability Act of 1980 (CERCLA), as amended. EPA and the Florida Department of Environmental Protection (FDEP) have determined that all appropriate response actions under CERCLA have been implemented and that no further response action is appropriate. Moreover, EPA and FDEP have determined that the response actions conducted at the Site to date have been protective of public health, welfare, and the environment.

DATES: Comments on the proposed deletion from the NPL should be submitted no later than June 8, 2000.

ADDRESSES: Comments may be mailed to: Mr. Jamey Watt, Remedial Project Manager, Environmental Protection Agency, Region 4, 61 Forsyth Street, S.W., Atlanta, GA 30303-3104.

Comprehensive information on this Site is available through the EPA Region 4 public docket, which is located at EPA's Region 4 office and is available for viewing by appointment from 8:00 a.m. to 4:00 p.m., Monday through Friday, excluding holidays. Requests for appointments or copies of the background information from the regional public docket should be directed to the EPA Region 4 docket office.

The address for the regional docket office is: Record Center, Environmental Protection Agency, Region 4, 61 Forsyth Street, S.W., Atlanta, Georgia 30303-3104, Phone: (404) 562-9530.

Background information from the regional public docket also is available for viewing at the Site information repository located at: Broward County Main Library, Government Documents, 100 South Andrews Avenue, N.E., Fort Lauderdale, Florida 33301.

FOR FURTHER INFORMATION CONTACT: Mr. Jamey Watt, Environmental Protection Agency, Region 4, 61 Forsyth Street S.W., Atlanta, Georgia 30303-3104, (404) 562-8920.

SUPPLEMENTARY INFORMATION:

Table of Contents:

I. Introduction

II. NPL Deletion Criteria

III. Deletion Procedures

IV. Basis for Intended Site Deletion

I. Introduction

EPA, Region 4, announces its intent to delete the Chemform, Inc. Superfund Site from the NPL, which constitutes Appendix B of the NCP, and requests comments on this proposed deletion. EPA identifies sites on the NPL that appear to present a significant risk to public health, welfare, or the environment. Sites on the NPL may be the subject of remedial actions financed by the Hazardous Substances Superfund Trust Fund (Fund). Pursuant to 40 CFR 300.425(e)(3) of the NCP, any site deleted from the NPL remains eligible for Fund-financed remedial actions if conditions at the site warrant such action.

EPA will accept comments concerning this Site for 30 days after publication of this notice in the Federal Register.

Section II of this notice explains the criteria for deleting sites from the NPL. Section III discusses procedures that EPA is using for this action. Section IV discusses how the Site meets the deletion criteria.

II. NPL Deletion Criteria

The NCP establishes the criteria that the Agency uses to delete sites from the NPL. In accordance with 40 CFR 300.425(e), sites may be deleted from or recategorized on the NPL when no further response is appropriate. In making this determination, EPA will consider, in consultation with the State, whether any of the following criteria have been met:

• Responsible parties or other persons have implemented all appropriate response actions required; or

• All appropriate Fund-financed responses under CERCLA have been implemented, and no further response action by responsible parties is appropriate; or

• The remedial investigation has shown that the release poses no significant threat to public health or the environment and, therefore, taking of remedial measures is not appropriate.

CERCLA Section 121 (c), 42 U.S.C. 9621 (c), provides that if a site is deleted from the NPL where hazardous substances, pollutants, or contaminants remain at the site above levels that allow for unlimited use and unrestricted exposure, EPA's policy is that a subsequent review of the site will be conducted at least every five years after the initiation of the remedial action at the site to ensure that the site remains protective of public health and the environment. The OU1 ROD signed on September 22, 1992, as amended by the Explanation of Significant Differences (ESD) signed on April 2, 1999, calls for such Five-Year Review events at the Site. Each Five-Year Review will examine the institutional controls identified at the Site and allow for additional ground water monitoring if necessary. Five-Year Reviews will continue until Site ground water meets maximum concentration limits (MCLs). The OU2 ROD selected remedy which addressed soil contamination did not require Five-Year Review events. Through soil excavation and removal actions, no hazardous substances remained in on-site soils above health-based levels. If new information becomes available that indicates a need for further action, EPA may initiate a remedial action. Whenever there is a significant release from a site deleted from the NPL, the site may be restored to the NPL without the application of the Hazard Ranking System.

III. Deletion Procedures

EPA, Region 4, will accept and evaluate public comments before making a final decision on deletion from the NPL. Comments from the local community may be the most pertinent to deletion decisions. The following procedures were used for the intended deletion of this Site:

• EPA has recommended deletion and has prepared the relevant documents;

• The State has concurred with the deletion decision;

• Concurrent with this Notice of Intent to Delete, notices have been published in local newspapers and have been distributed to appropriate federal, state and local officials and other interested parties announcing the commencement of a 30-day public comment period on EPA's Notice of Intent to Delete;

• EPA has made all relevant documents available at the information repositories; and

• EPA will respond to significant comments, if any, submitted during the public comment period.

Deletion of the Site from the NPL does not itself, create, alter, or revoke any individual rights or obligations. The NPL is designed primarily for informational purposes to assist Agency management. As mentioned in section II of this document, 40 CFR 300.425(e)(3) provides that deletion of a site from the NPL does not preclude eligibility for future Fund-financed response actions nor does it preclude future State action pursuant to State law.

The comments received on EPA's Notice of Intent to Delete during the notice and comment period will be evaluated by EPA before making the final decision to delete. EPA will prepare a Responsiveness Summary, if necessary, which will address the comments received during the public comment period.

A deletion occurs when the EPA Regional Administrator places a Notice of Deletion in the Federal Register. Any deletions from the NPL will be reflected in the next NPL update. Public notices and copies of the Responsiveness Summary, if necessary, will be made available to local residents by the Regional office.

IV. Basis for Intended Site Deletion

The following Site summary provides the EPA's rationale for deleting the Site from the NPL.

The four-acre Chemform, Inc. Site lies in a highly industrialized section of northeastern Broward County, Pompano Beach, Florida. Chemform, Inc. operated as a certified repair and refurbishment station of turbine engine components for the aerospace industry. Chemform, Inc. also helped design, manufacture, and market electrochemical machines for other industries in metal parts manufacturing.

In 1977, a Broward County Pollution Control Board inspector found Chemform, Inc. had violated county regulations by discharging industrial wastes (oily liquid and sludge) onto the ground. EPA conducted a site screening investigation in August 1985. In July 1986, an EPA contractor conducted a sampling investigation. This investigation found the main source area of contamination to be composed of inorganics in the soil. After evaluating the sampling results, EPA proposed the Site for the NPL on June 24, 1988. On October 4, 1989, the Chemform, Inc. Site was promulgated onto the NPL.

The Chemform, Inc. Site was divided into two Operable Units (OUs). Operable Unit 1 (OU1) addresses ground water contamination. Operable Unit 2 (OU2) addresses contaminated soils. There is a Record of Decision (ROD) for each operable unit. The OU1 ROD was signed on September 22, 1992 and documented a selected remedy of “No Action with Monitoring” for the ground water. The September 16, 1993 OU2 ROD selected remedy for soil was “No Further Action” due to previous soil removal operations.

The “No Action with Monitoring” selected remedy for OU1 was based on the Remedial Investigation results and risk assessment, which indicated no remediation of ground water was needed at the Site. This was due to soil and waste removal actions in 1992 designed to eliminate the potential for inorganic constituents to leach from surface and subsurface soils into the ground water. The OU1 ROD called for quarterly ground water monitoring of the contaminants of concern (COCs) for no less than one year. The COCs identified in the OU1 ROD were selected based upon their toxicological properties, concentrations and frequency of occurrence during the OU1 Remedial Investigation.

Post-ROD quarterly ground water monitoring of the COCs occurred from October 1993 to July 1994. Additional necessary ground water sampling occurred at the Site and is documented in the ESD signed on April 2, 1999. All post-ROD ground water monitoring results revealed that concentrations for the COCs were below Florida primary drinking water standards. However, as documented in the OU1 ESD, the presence of vinyl chloride in some post-ROD ground water samples resulted in the initiation of Five-Year Review events. Vinyl chloride was not identified as a COC in the OU1 ROD. The Five-Year Reviews will monitor current institutional controls and allow for ground water sampling if necessary to ensure that the Site remains protective of human health and the environment.

The OU2 ROD addressed soil contamination. Soil characterization at the Site began with the OU1 Remedial Investigation in October 1989 and continued through the Removal Action in June 1992. Contaminant levels were substantially reduced by soil and source area cleanup activities, which Chemform, Inc. conducted under EPA oversight. More than 2,000 cubic yards of contaminated surface and subsurface soils were excavated. Confirmatory sampling of surface and subsurface soils revealed Soil Cleanup Levels (SCLs) for inorganics under the Removal Action had been reached.

As part of the OU2 soil removal actions at the Site, a septic tank system was excavated and disposed of off-site in June 1992. Testing of the tank contents showed the presence of trichloroethene (TCE) and related organic compounds. Concerns over potential ground water contamination from these compounds led to additional ground water sampling subsequent to the post-ROD quarterly ground water sampling. This further sampling revealed the presence of one TCE related compound, vinyl chloride, which was not targeted as a COC in the OU1 ROD, above the MCL. The events and results are summarized in the ESD. Due to the presence of vinyl chloride above the MCL, the ESD documents the need for Five-Year Reviews to be performed at the Site. The presence of vinyl chloride does not indicate a current health threat at the Site. Public water supply lines service the Site and surrounding area. State and local ground water use controls prevent a future exposure route from occurring. A Five-Year Review policy will verify existing ground water use controls and, as determined necessary by EPA, continue ground water monitoring.

Applicable Deletion Criteria

One of the three criteria for site deletion, 40 CFR 300.425(e)(l)(ii), specifies that EPA may delete a site from the NPL if “all appropriate Fund-Financed Response under CERCLA has been implemented, and no further response action by responsible parties is appropriate.” EPA, with the concurrence of FDEP, believes that this criterion for deletion has been met and the Site is protective of human health and the environment. Subsequently, EPA is proposing the deletion of this Site from the NPL.

State Concurrence

The Florida Department of Environmental Protection concurs with the proposed deletion of the Chemform, Inc. Superfund Site from the NPL. FDEP submitted a “Letter of Concurrence” to EPA on November 22, 1999. EPA also worked closely with FDEP in establishing a five year review period in the ESD.

Reports that contain extensive Site characterization information are available for review, along with the RODs and ESD, in the Administrative Record. A Deletion Docket, which contains all pertinent information supporting the deletion recommendation, is also available to the public at the EPA Regional office and the local Site repository.

Dated: April 6, 2000.
A. Stanley Meiburg,
Acting Regional Administrator, Region IV.

[FR Doc. 00-11569 Filed 5-8-00; 8:45 am]

BILLING CODE 6560-50-P